DEPARTMENT OF HOUSING AND URBAN DEVELOPMENT

[Docket No. FR-5831-N-61]

30-Day Notice of Proposed Information Collection: Housing Choice Voucher Program

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: January 14, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on September 21, 2015 at 80 FR 57012.

A. Overview of Information Collection

Title of Information Collection: Housing Choice Voucher (HCV) Program.

OMB Approval Number: 2577-0169.

Type of Request: Revision of currently approved collection with changes that include portability paperwork, inclusion of the information or briefing packet, and testing a new inspection protocol for HCV units.

Form Numbers: HUD-52515, HUD-52667, HUD-52580, HUD-52580-A, HUD-52517, HUD-52646, HUD-52665, HUD-52641, HUD-52641-A, HUD 52642, HUD 52649, HUD 52531A and B, HUD 52530A, HUD 52530B, HUD 52530C, HUD 52578B. Please note that form HUD-52665 (Family Portability Information) has been revised to Incorporate changes in the HCV Program; Streamlining the Portability Process, Final Rule published in the Federal Register on August 20, 2015. No burden hours were added.

Description of the need for the information and proposed use: Public Housing Agencies (PHA) will prepare an application for funding which specifies the number of units requested, as well as the PHA's objectives and plans for administering the HCV program. The application is reviewed by HUD Headquarters and HUD Field Offices and ranked according to the PHA's administrative capability, the need for housing assistance, and other factors specified in a notice of funding availability. The PHAs must establish a utility allowance schedule for all utilities and other services. Units must be inspected using HUD-prescribed forms to determine if the units meet the housing quality standards (HQS) of the HCV program. In addition, HUD will be testing an alternative protocol for conducting housing inspections at up to 250 PHAs, using HUD-provided software. The alternative protocol is intended to standardize inspections between PHAs and create a more objective list of unit deficiencies for inspectors to use. The amount of time it takes PHAs to perform the inspection using the existing set of standards and protocols and to perform the inspection under alternative inspection protocol is equivalent; therefore there is no increase in burden hours.

After the family is issued a HCV to search for a unit pursuant to attending a briefing and receiving an information packet, the family must complete and submit to the PHA a Request for Tenancy Approval when it finds a unit which is suitable for its needs. Initial PHAs will use a standardized form to submit portability information to the receiving PHA who will also use the form for monthly portability billing. PHAs and owners will enter into housing assistance payments (HAP) contract each providing information on rents, payments, certifications, notifications, and owner agreement in a form acceptable to the PHA. A tenancy addendum is included in the HAP contract as well as incorporated in the lease between the owner and the family. Families that participate in the Homeownership option will execute a statement regarding their responsibilities and execute contracts of sale including an additional contract of sale for new construction units. PHAs participating in the project-based voucher (PBV) program will enter into Agreements with developing owners, HAP contracts with the existing and New Construction/Rehabilitation owners, Statement of Family Responsibility with the family and a lease addendum will be provided for execution between the family and the owner.

Respondents (i.e. affected public): State and Local Governments, businesses or other non-profits.

Estimated Number of Respondents: 2,224 PHAs.

Estimated Number of Responses: 3,304,737.

Frequency of Response: Varies by form.

Average Hours per Response: .48 hours.

Total Estimated Burdens Hours: 1,589,124 .

Information collection | Number of respondents | Frequency of response | Responses per annum | Burden hour per response | Annual burden hours | Hourly cost per response | Annual cost
| 2,224 | Varies | 3,304,737 | .48 | 1,589,124 | $20 | $31,782,480
Total | 2,224 | Varies | 3,304,737 | .48 | 1,589,124 | $20 | $31,782,480

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: December 9, 2015.
Colette Pollard,
Department Reports Management Officer, Office of the Chief Information Officer.

[FR Doc. 2015-31506 Filed 12-14-15; 8:45 am]

BILLING CODE 4210-67-P